DEPARTMENT OF HEALTH AND HUMAN SERVICES

Office of the Secretary

Findings of Research Misconduct

AGENCY: Office of the Secretary, HHS.

ACTION: Notice.

SUMMARY: Notice is hereby given that the Office of Research Integrity (ORI) and the Assistant Secretary for Health have taken final action in the following case:

Emily M. Horvath, Indiana University: Based on the Respondent's own admissions in sworn testimony and as set forth below, Indiana University (IU) and the U.S. Public Health Service (PHS) found that Ms. Emily M. Horvath, former graduate student, IU, engaged in research misconduct in research supported by National Center for Complementary and Alternative Medicine (NCCAM), National Institutes of Health (NIH), grant R01 AT001846 and Predoctoral Fellowship Award F31 AT003977-01, and National Institute of Diabetes and Digestive and Kidney Diseases (NIDDK), NIH, grant R01 DK082773-01.

Specifically, the Respondent admitted to falsifying the original research data when entering values into computer programs for statistical analysis with the goal of reducing the magnitude of errors within groups, thereby gaining greater statistical power. The Respondent, IU, and ORI agree that the figures identified below in specific grant applications and published papers are false and that these falsifications rise to the level of research misconduct:

• Respondent admitted to falsifying Figures 6B, 18, 22, 23B, and 24 in NCCAM, NIH, grant application R01 AT001846-06, “Chromium Enhanced Insulin & GLUT4 Action via Lipid Rafts,” Jeffery S. Elmendorf, P.I. (07/01/04-05/31/20) (application was withdrawn in May 2009).

• Respondent admitted to falsifying Figures 6B, 8, 9D, 16D, and 21 in NIDDK, NIH, grant application R01 DK082773-01, “Mechanisms of Membrane-Based Insulin Resistance & Therapeutic Reversal Strategies,” Jeffrey S. Elmendork, P.I. (3/15/09-01/31/13).

• Respondent admitted to falsifying Figures 2C, 5, 6D, and 11 in the publication: Horvath, E.M., Tacket, L., McCarthy, A.M., Raman, P., Brozinick, J.T., & Elmendorf, J.S. “Antidiabetogenic Effects of Chromium Mitigate Hyperinsulinemia-induced Cellular Insulin Resistance via Correction of Plasma Membrane Cholesterol Imbalance.” Molecular Endocrinology 22:937-950, 2008.

• Respondent admitted to falsifying Figure 2C in the publication: Bhonagiri, P., Patter, G.R., Horvath, E.M., Habegger, K.M., McCarthy, A.M., Elmendorf, J.S. ``Hexosamine biosysthesis pathway flux contributes to insulin resistance via altering membrane PIP2 and cortical F-actin.'' Endocrinology 150(4):1636-1645, 2009.

Respondent also admitted to falsifying Figures 2C, 5, 6D, 11, 13C, 15A, 16A, 17A, 18, 19C, and 20A, which are included in her thesis, “Cholesterol-dependent mechanism(s) of insulin-sensitizing therapeutics.” The Ph.D. was awarded to the Respondent on December 31, 2008. Respondent was supported by a Predoctoral Fellowship Award F31 AT003977 from 09/30/2006 to 09/29/2009.

Ms. Horvath has entered into a Voluntary Settlement Agreement in which she has voluntarily agreed, for a period of three (3) years, beginning on March 22, 2010:

(1) To exclude herself from serving in any advisory capacity to PHS, including but not limited to service on any PHS advisory committee, board, and/or peer review committee, or as a consultant;

(2) That any institution that submits an application for PHS support for a research project on which the Respondent's participation is proposed or that uses her in any capacity on PHS-supported research, or that submits a report of PHS-funded research in which she is involved, must concurrently submit a plan for supervision of her duties to the funding agency for approval; the supervisory plan must be designed to ensure the scientific integrity of her research contribution; respondent agreed that she will not participate in any PHS-supported research until such a supervisory plan is submitted to ORI;

(3) That any institution employing her submits, in conjunction with each application for PHS funds or report, manuscript, or abstract of PHS-funded research in which the Respondent is involved, a certification that the data provided by the Respondent are based on actual experiments or are otherwise legitimately derived and that the data, procedures, analyses, and methodology are accurately reported in the application, report, manuscript, or abstract; the Respondent must ensure that the institution sends a copy of the certification to ORI; and

(4) That she will write letters, approved by ORI, to relevant journal editors of the published papers cited above to state what she falsified/fabricated and to provide corrections if she has not already done so. These letters should state that her falsifications/fabrications were the underlying reason for the retraction/corrections.

FOR FURTHER INFORMATION CONTACT: Director, Division of Investigative Oversight, Office of Research Integrity, 1101 Wootton Parkway, Suite 750, Rockville, MD 20852, (240) 453-8800.

John Dahlberg,
Director, Division of Investigative Oversight, Office of Research Integrity.

[FR Doc. 2010-8386 Filed 4-12-10; 8:45 am]

BILLING CODE 4150-31-P